DEPARTMENT OF DEFENSE

Defense Intelligence Agency

[DoD-2006-OS-0157]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on August 18, 2006 unless comments are received that would result in a contrary determination.

ADDRESSES: Freedom of Information Office, Defense Intelligence Agency (DAN-1A), 200 MacDill Blvd, Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 13, 2006.
C.R. Choate,
Alternate OSD Federal Register Liaison Officer, Department of Defense.

LDIA 0010

System name:

Requests for Information (February 22, 1993, 58 FR 10613).

Changes:

* * * * *

System Name:

Delete entry and replace with: “Requests for Freedom of Information Act, Privacy Act, and Mandatory Declassification Review Information.”

System Location:

Delete entry and replace with: “Defense Intelligence Agency, Washington, DC 20340-5100.”

* * * * *

Authority for maintenance of the system:

Delete entry and replace with: “5 U.S.C. 301, Departmental Regulations; 5 U.S.C. 552, Freedom of Information Act-FOIA; 5 U.S.C. 552a, Privacy Act; DoD 5400.7-R, DoD FOIA Program; DoD 5400.11-R, DoD Privacy Program; and DIA Instruction 5400.11R, Privacy Act Instruction.”

Purpose(s):

Delete first paragraph and replace with: “To provide records and documentation in response to requests from the public sector for information which is originated by or contained in the files of the Defense Intelligence Agency.”

* * * * *

Storage:

Delete entry and replace with: “Paper records in file folders and electronically in a database.”

Retrievability:

Delete entry and replace with: “Alphabetically by surname of individual and case numbers.”

Safeguards:

Delete entry and replace with: “Records are maintained in a building protected by security guards and are stored in vaults, safes or locked cabinets and are accessible only to authorized personnel who are properly screened, cleared and trained in the protection of privacy information.”

System Manager(s) and Address:

Delete entry and replace with: “Public Access Branch, Defense Intelligence Agency, Washington Dc 20340-5100.”

Notification Procedures:

Delete entry and replace with: “Individuals seeking to determine whether information about themselves is contained in this system of records should address written inquiries to the Freedom of Information Act Office (DAN-1A/FOIA), Defense Intelligence Agency, 200 MacDill Blvd, Washington, DC 20340-5100.

Individuals should provide their full name, current address, telephone number and, if the request is made under the Privacy Act, Social Security Number. Providing the Social Security number is voluntary and it will be used solely for identification purposes. Failure to provide the Social Security number will not affect the individual's rights, but could result in delay of a timely response.”

Record Access Procedures:

Delete entry and replace with: “Individuals seeking access to information about themselves contained in this system should address written inquiries to the Freedom of Information Act Office (DAN-1A/FOIA), Defense Intelligence Agency, 200 MacDill Blvd, Washington, DC 20340-5100.

Individuals should provide their full name, current address, telephone number and, if the request is made under the Privacy Act, Social Security Number. Providing the Social Security Number is voluntary and it will be used solely for identification purposes. Failure to provide the Social Security number will not affect the individual's rights, but could result in delay of a timely response.”

Contesting Record Procedures:

Delete entry and replace with: “DIA's rules for accessing records, for contesting contents and appealing initial agency determinations are published in DIA Regulation 12-12 “Defense Intelligence Agency Privacy Program”; 32 CFR part 319—Defense Intelligence Agency Privacy Program; or may be obtained from the system manager.”

* * * * *

LDIA 0010

System name:

Requests for Freedom of Information Act, Privacy Act, and Mandatory Declassification Review Information.

System location:

Defense Intelligence Agency, Washington, DC 20340-5100.

Categories of Individuals covered by the system:

Individuals who make requests to DIA for information.

Categories of records in the system:

Correspondence from requester, and documents related to the receipt, processing and final disposition of the request.

Authority for maintenance of the system:

5 U.S.C. 301, Departmental Regulations; 5 U.S.C. 552, Freedom of Information Act—FOIA; 5 U.S.C. 552a, Privacy Act; DoD 5400.7-R, DoD FOIA Program; DoD 5400.11-R, DoD Privacy Program; and DIA Instruction 5400.11R, Privacy Act Instruction.

Purpose(s):

To provide records and documentation in response to requests from the public sector for information which is originated by or contained in the files of the Defense Intelligence Agency.

To provide information for compiling reports required by public disclosure statutes and to assist the Department of Justice in preparation of the Agency's defense in any law suit arising under these statutes.

Rountine uses of records maintained in the system, includign categories of users and the purposes of such uses:

In addition to those disclosures generally permitted under 5 U.S.C. 552a(b) of the Privacy Act, these records or information contained therein may specifically be disclosed outside the DoD as a routine use pursuant to 5 U.S.C. 552a(b)(3) as follows:

The ‘Blanket Rountine Uses’ set forth at the beginning of the DIA's compilation of systems of records notices apply to this system.

Policies and practices for storing, retrieving, accessing, retaining, and disposing of records in the system:

Storage:

Paper records in file folders and electronically in a database.

Retrievability:

Alphabetically by surname of individual and case numbers.

Safeguards:

Records are maintained in a building protected by security guards and are stored in vaults, safes or locked cabinets and are accessible only to authorized personnel who are properly screened, cleared and trained in the protection of privacy information.

Retention and disposal:

Granted access: Destroy 2 years after date of Agency reply. Denied access, but no appeals by requester: Destroy 6 years after date of Agency reply. Contested records: Destroy 4 years after final denial by Agency, or 3 years after final Adjudication by courts, whichever is later.

System manager(s) and address:

Public Access Branch, Defense Intelligence Agency, Washington, DC 20340-5100.

Notification procedure:

Individuals seeking to determine whether information about themselves is contained in this system of records should address written inquiries to the Freedom of Information Act Office (DAN-1A/FOIA), Defense Intelligence Agency, 200 MacDill Blvd, Washington, DC 20340-5100.

Individuals should provide their full name, current address, telephone number and, if the request is made under the Privacy Act, Social Security Number. Providing the Social Security Number is voluntary and it will be used solely for identification purposes. Failure to provide the Social Security Number will not affect the individual's rights, but could result in delay of a timely response.

Record access procedures:

Individuals seeking access to information about themselves contained in this system should address written inquiries to the Freedom of Information Act Office (DAN-1A/FOIA), Defense Intelligence Agency, 200 MacDill Blvd, Washington, DC 20340-5100.

Individuals should provide their full name, current address, telephone number, and if the request is made under the Privacy Act, Social Security Number. Providing the Social Security Number is voluntary and it will be used solely for identification purposes. Failure to provide the Social Security Number will not affect the individual's rights, but could result in delay of a timely response.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

Individual requesters and Agency officials.

Exemptions claimed for the system:

None.

[FR Doc. 06-6307 Filed 7-18-06; 8:45 am]

BILLING CODE 5001-06-M